DEPARTMENT OF HOMELAND SECURITY

Coast Guard

[Docket No. USCG-2019-0351]

Notice of Public Meeting in Preparation for the IMO's Sixty-Ninth Session of IMO's Technical Cooperation Committee

AGENCY: Coast Guard, DHS.

ACTION: Notice of meeting.

SUMMARY: The United States Coast Guard will conduct an open meeting in Washington, DC in preparation for the upcoming sixty-ninth session of IMO Council to be held at the IMO Headquarters, United Kingdom, June 25-27, 2019.

DATES: This meeting will be held on Thursday, June 20, 2019, beginning at 10:30 a.m., Eastern Time. This meeting is open to the public.

ADDRESSES: The public meeting will be held in Room 5L18-01 of the Douglas A. Munro Coast Guard Headquarters Building at St. Elizabeth's, 2703 Martin Luther King, Jr. Avenue SE, Washington, DC 20593. Due to security requirements, each visitor must present two valid, government-issued forms of identification in order to gain entrance to the building. Those desiring to attend the public meeting should contact the Coast Guard ahead of the meeting (see FOR FURTHER INFORMATION CONTACT) to facilitate the security process related to building access, or to request reasonable accommodation.

FOR FURTHER INFORMATION CONTACT: For additional information about this public meeting you may contact Lieutenant Commander Staci Weist by telephone at 202-372-1376 or by email at Eustacia.Y.Weist@uscg.mil.

SUPPLEMENTARY INFORMATION: The primary purpose of this meeting is to prepare for the upcoming sixty-ninth session of IMO's Technical Cooperation Committee (TC 69). The agenda items for this session include:

○ Adoption of the agenda

○ Work of other bodies and organizations

○ Integrated Technical Cooperation Programme

○ Resource mobilization and partnerships

○ Long-term strategy for the review and reform of technical cooperation

○ The 2030 Agenda for Sustainable Development

○ Regional presence and coordination

○ IMO Member State Audit Scheme

○ Review and status of implementation of the recommendations of the Impact Assessment Exercise for the period 2012-2015

○ Capacity-building: Strengthening the impact of women in the maritime sector

○ Global maritime training institutions

○ Application of the document on the Organization and method of work of the Technical Cooperation Committee

○ Work Programme

○ Election of Chair and Vice-Chair for 2020

○ Any other business

○ Consideration of the report of the Committee on its sixty-ninth session

Members of the public may attend this meeting up to the seating capacity of the room. To facilitate the building security process, and to request reasonable accommodation, those who plan to attend should contact the meeting coordinator, Lieutenant Commander Staci Weist, not later than June 17, 2019. Requests made after June 17, 2019, may not be able to be accommodated. It is recommended that attendees arrive to Coast Guard Headquarters no later than 30 minutes ahead of the scheduled meeting for the security screening process. Parking in the vicinity of the building is extremely limited. Additional information regarding this and other IMO public meetings may be found at: www.uscg.mil/imo.

Dated: June 3, 2019.
Benjamin J. Hawkins,
Acting Director, Commercial Regulations and Standards, U.S. Coast Guard.

[FR Doc. 2019-11988 Filed 6-6-19; 8:45 am]

BILLING CODE P